DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2000, there were six applications approved. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of San Angelo, Texas.

Application Number: 00-04-U-SJT.

Application Type: Use PFC revenue.

PFC Level: $3.00.

Total PFC Revenue To Be Used in This Decision: $96,410.

Charge Effective Date: December 1, 1998.

Estimated Charge Expiration Date: July 1, 2006.

Class of Air Carriers Not Required To Collect PFC'S: No change from previous decision.

Brief Description of Projects Approved For Use: Acquire ramp/runway sweeper. Relocate aircraft rescue and firefighting facility.

Decision Date: September 15, 2000.

FOR FURTHER INFORMATION CONTACT: G. Thomas Wade, Southwest Region Airports Division, (817) 222-5613.

Public Agency: Beaufort County Council, Hilton Head Island, South Carolina.

Application Number: 00-02-I-00-HXD.

Application Type: Impose a PFC.

PFC Level: $3.00.

Total PFC Revenue Approved in This Decision: $2,076,657.

Earliest Charge Effective Date: December 1, 2000.

Estimated Charge Expiration Date: October 1, 2007.

Class of Air Carriers Not Required to Collect PFC'S: Part 135 (non-scheduled) carriers.

Determination: Approved. Based on information contained in the public agency's application, the FAA has determined that the approved class accounts for less than 1 percent of the total annual enplanements at Hilton Head Island Airport.

Brief Description of Projects Approved for Collection: Land acquisition. General aviation development.

Decision Date: September 22, 2000.

FOR FURTHER INFORMATION CONTACT: Tracie L. Dominy, Atlanta Airports District Office, (404) 305-7148.

Public Agency: Bloomington-Normal Airport Authority, Bloomington, Illinois.

Application Number: 00-03-U-00-BMI.

Application Type: Use PFC revenue.

PFC Level: $3.00.

Total PFC Revenue To Be Used in This Decision: $20,141,929.

Charge Effective Date: December 1, 2010.

Estimated Charge Expiration Date: April 1, 2024.

Class of Air Carriers Not Required To Collect PFC'S: No change from previous decision.

Brief Description of Projects Approved for Use: Construct new terminal development area.

Decision Date: September 26, 2000.

FOR FURTHER INFORMATION CONTACT: Denis Rewerts, Chicago Airports District Office, (847) 294-7195.

Public Agency: City of St. Louis Airport Authority, St. Louis, Missouri.

Application Number: 00-06-C-00-STL.

Application Type: Impose and use a PFC.

PFC Level: $3.00.

Total PFC Revenue Approved in This Decision: $847,915,232.

Earliest Charge Effective Date: September 1, 2001.

Estimated Charge Expiration Date: January 1, 2018.

Class of Air Carriers Not Required To Collect PFC'S: Air taxi/commercial operators filing FAA Form 1800-31.

Determination: Approved. Based on information contained in the public agency's application, the FAA has determined that the approved class accounts for less than 1 percent of the total annual enplanements at Lambert-St. Louis Internation Airport.

Brief Description of Projects Approved for Collection and Use: Balance of real property acquisition for airport expansion parcels. Carrollton Schools replacement facility. Program management (includes program management/airport development program consultant fees). Site development and roadway infrastructure.

Decision Date: September 28, 2000.

FOR FURTHER INFORMATION CONTACT: Lorna Sandridge, Central Region Airports Division, (816) 329-2641.

Public Agency: City of Cleveland, Ohio.

Application Number: 00-07-U-00-CLE.

Application Type: Use PFC revenue.

PFC Level: $3.00.

Total PFC Revenue To Be Used in This Decision: $6,675,642.

Charge Effective Date: November 1, 1995.

Estimated Charge Expiration Date: March 1, 2008.

Class of Air Carriers Not Required to Collect PFC'S: No change from previous decision.

Brief Description of Projects Approved for Use: National Aeronautics and Space Administration feasibility and pre-engineering study: relocation of engine test facility. Waste water—glycol collection system construction.

Decision Date: September 28, 2000.

FOR FURTHER INFORMATION CONTACT: Robert L. Conrad, Detroit Airports District Office, (734) 487-7295.

Public Agency: City of Oklahoma City, Oklahoma.

Application Number: 00-03-C-00-OKC.

Application Type: Impose and use a PFC.

PFC Level: $3.00.

Total PFC Revenue Approved in This Decision: $115,253,750.

Earliest Charge Effective Date: April 1, 2001.

Estimated Charge Expiration Date: May 1, 2019.

Classes of Air Carriers Not Required to Collect PFC'S: Part 135 on demand air taxi/commercial operators filing FAA Form 1800-31.

Determination: Approved. Based on information contained in the public agency's application, the FAA has determined that the approved class accounts for less than 1 percent of the total annual enplanements at Will Rogers World Airport.

Brief Description of Projects Approved for Collection and Use:

Terminal renovation and expansion, phases I and II.

Acquire and install 17 passenger loading bridges.

Acquire and install baggage make-up system.

Decision Date: September 29, 2000.

For Further Information Contact: G. Thomas Wade, Southwest Region Airports Division, (817) 222-5613.

Amendments to PFC Approvals
Amendment No., city, state | Amendment approved date | Original approved net PFC revenue | Amended approved net PFC revenue | Original estimated charge exp. date | Amended estimated charge exp. date
97-03-C-01-EYW, Key West, FL | 07/27/00 | $1,860,000 | $1,760,000 | 03/01/00 | 12/01/99
95-03-C-01-YKM, Yakima, WA | 09/07/00 | 220,000 | 178,850 | 07/01/96 | 07/01/96
96-02-C-04-DFW, Dallas/Fort Worth, TX | 09/26/00 | 72,113,120 | 90,172,120 | 05/01/01 | 06/01/01
98-04-U-01-DFW, Dallas/Fort Worth, TX | 09/26/00 | NA | NA | 05/01/01 | 06/01/01
97-02-C-01-DRO, Durango, CO | 09/28/00 | 606,983 | 593,570 | 08/01/00 | 08/01/00
92-01-C-03-STL, St. Louis, MO | 09/28/00 | 97,297,850 | 71,642,933 | 04/01/96 | 08/01/95
95-02-C-05-STL, St. Louis, MO | 09/28/00 | 108,214,867 | 91,640,971 | 07/01/98 | 07/01/97
98-04-I-02-STL, St. Louis, MO | 09/28/00 | 155,000,000 | 178,756,391 | 01/01/02 | 09/01/01
99-05-U-01-STL, St. Louis, MO | 09/28/00 | NA | NA | 01/01/02 | 09/01/01
97-01-C-01-ATL, Atlanta, GA | 09/29/00 | 491,370,084 | 948,059,706 | 02/01/04 | 05/01/05
(Note: This amendment also changes the PFC level charged from $3.00 per enplaned passenger to $4.50 per enplaned passenger, effective April 1, 2001.)

Issued in Washington, DC. on October 24, 2000.
Eric Gabler,
Manager, Passenger Facility Charge Branch.

[FR Doc. 00-27750 Filed 10-27-00; 8:45 am]

BILLING CODE 4910-13-M